DEPARTMENT OF THE INTERIOR

Bureau of Land Management

[14X 1109AF LLUT980300-L11500000.PH0000-24-1A]

Utah Resource Advisory Council/Recreation Resource Advisory Council Meeting/Conference Call

AGENCY: Bureau of Land Management, Interior.

ACTION: Notice of meeting/conference call.

SUMMARY: In accordance with the Federal Land Policy and Management Act, the Federal Advisory Committee Act, and the Federal Lands Recreation Enhancement Act, the Bureau of Land Management's (BLM) Utah Resource Advisory Council (RAC)/Recreation Resource Advisory Council (RecRAC) will host a meeting/conference call.

DATES: The BLM-Utah RAC/RecRAC will host a meeting/conference call on Wednesday, Aug. 13, 2014, from 8:30 a.m.-5:00 p.m., Mountain Daylight Time.

ADDRESSES: Those attending in person must meet at the Home2 Suites, Summit Conference Room, 3051 W. Club House Drive, Lehi, Utah 84043.

FOR FURTHER INFORMATION CONTACT: If you wish to listen to the teleconference, orally present material during the teleconference, or submit written material for the RAC/RecRAC to consider during the teleconference, please notify Sherry Foot, Special Programs Coordinator, Bureau of Land Management, Utah State Office, 440 West 200 South, Suite 500, Salt Lake City, Utah 84101; phone (801) 539-4195; or, sfoot@blm.gov no later than Monday, Aug. 11, 2014.

SUPPLEMENTARY INFORMATION: Agenda topics will consist of introduction of new members; an overview of BLM-Utah issues; planning updates for the Greater sage- grouse, City Cedar and St. George; discussion on the Special Recreation Permit Application Fee Proposal; and an overview on BLM-Utah Wild Horse and Burro program.

The RecRAC will listen to three fee presentations from the Uinta-Wasatch-Cache National Forest on 11 new cabin rentals, Mirror Lake Scenic Byway Recreation Area, and the American Fork Canyon/Alpine Loop Recreation Area.

A half-hour public comment period will take place from 3:00-3:30 p.m. The meeting is open to the public; however, transportation, lodging, and meals are the responsibility of the participating individuals.

The conference call will be recorded for purposes of minute-taking. Persons who use a telecommunications device for the deaf (TDD) may call the Federal Information Relay Service (FIRS) at 1-800-877-8339 to leave a message or question for the above individual. The FIRS is available 24 hours a day, seven days a week. Replies are provided during normal business hours.

Authority: 43 CFR 1784.4-1.

Juan Palma,
State Director.

[FR Doc. 2014-15045 Filed 6-26-14; 8:45 am]

BILLING CODE 4310-DQ-P